DEPARTMENT OF THE INTERIOR

Minerals Management Service

Agency Information Collection Activities: Proposed Collection; Comment Request

AGENCY: Minerals Management Service (MMS), Interior.

ACTION: Notice of an extension of a currently approved information collection (OMB Control Number 1010-0140).

SUMMARY: To comply with the Paperwork Reduction Act (PRA) of 1995, we are inviting comments on a collection of information that we will submit to the Office of Management and Budget (OMB) for review and approval. The information collection request (ICR) is titled “30 CFR part 210—Forms and Reports and Part 206—Product Valuation (Form MMS-2014, Report of Sales and Royalty Remittance).”

DATES: Submit written comments on or before July 14, 2003.

ADDRESSES: Submit written comments to Sharron L. Gebhardt, Regulatory Specialist, Minerals Management Service, Minerals Revenue Management, P.O. Box 25165, MS 320B2, Denver, Colorado 80225. If you use an overnight courier service, our courier address is Building 85, Room A-614, Denver Federal Center, Denver, Colorado 80225. You may also email your comments to us at mrm.comments@mms.gov. Include the title of the information collection and the OMB control number in the “Attention” line of your comment. Also include your name and return address. Submit electronic comments as an ASCII file avoiding the use of special characters and any form of encryption. If you do not receive a confirmation we have received your email, contact Ms. Gebhardt at (303) 231-3211.

FOR FURTHER INFORMATION CONTACT: Sharron L. Gebhardt, telephone (303) 231-3211, FAX (303) 231-3781 or email sharron.gebhardt@mms.gov.

SUPPLEMENTARY INFORMATION: Title: 30 CFR part 206—Product Valuation (Form MMS-2014, Report of Sales and Royalty Remittance).

OMB Control Number: 1010-0140.

Bureau Form Number: Form MMS-2014.

Abstract: The Secretary of the U.S. Department of the Interior (DOI) is responsible for collecting royalties from lessees who produce minerals from leased Federal and Indian lands. The Secretary is required by various laws to manage mineral resources production on Federal and Indian lands, collect the royalties due, and distribute the funds in accordance with those laws. The Secretary also has an Indian trust responsibility to manage Indian lands and seek advice and information from Indian beneficiaries. MMS performs the royalty management functions and assists the Secretary in carrying out DOI's Indian trust responsibility.

The Federal Oil and Gas Royalty Management Act (FOGRMA) of 1982, 30 U.S.C. 1701 et seq., states in section 101(a) that the Secretary “* * * shall establish a comprehensive inspection, collection, and fiscal and production accounting and auditing system to provide the capability to accurately determine oil and gas royalties, interest, fines, penalties, fees, deposits, and other payments owed, and collect and account for such amounts in a timely manner.” The persons or entities described at 30 U.S.C. 1713 are required to make reports and provide reasonable information as defined by the Secretary.

Form MMS-2014, Report of Sales and Royalty Remittance, is the only document used for reporting oil and gas royalties, certain rents, and other lease-related transactions to MMS (e.g., transportation and processing allowances, lease adjustments, and quality and location differentials). These transactions represent only a few of the transactions identified for this form.

MMS is requesting OMB's approval to continue to collect information using Form MMS-2014. No proprietary information will be submitted to MMS under this collection. No items of a sensitive nature are collected. The requirement to respond is mandatory.

Frequency of Response: Monthly.

Estimated Number and Description of Respondents: 1,600 payors

Estimated Annual Reporting and Recordkeeping “Hour” Burden: 125,856 hours.

The following chart shows the breakdown of the estimated burden hours by CFR section and paragraph:

Respondent Annual Burden Hour Chart
30 CFR Section Parts 210 and 206 | Reporting requirement | Burden hours per response | Annual number of responses | Annual burden hours
210.20(a); 210.21(c)(1); 210.50; and 210.52(a)(1), (2), (b), (c), and (d); 210.354 | You must submit Form MMS-2014 * * * to MMS electronically. * * * You must submit an electronic sample of your report for MMS approval * * * Records may be maintained in microfilm, microfiche, or other recorded media * * * You must submit a completed Form MMS-2014 (Report of Sales and Royalty Remitttance) to MMS with (1) All royalty payments; and (2) Rents on nonproducing leases, . . . When you submit Form MMS-2014 data electronically, you must not submit the form itself; Completed Forms MMS-2014 for royalty payments are due by the end of the month following the production month; . . . completed Forms MMS-2014 for rental payments are due no later than the anniversary date of the lease. . . . . A completed Report of Sales and Royalty Remittance (Form MMS-2014) must be submitted each month once sales or utilization of production occur, . . . This report is due on or before the last day of the month following the month in which production was sold or utilized, . . | .1167 (Manual 1%) .05 (Electronic 99%) | 24,840 2,459,160 | 2,898 122,958
206.55(c)(4) | Transportation allowances must be reported as a separate line item on Form MMS-2014 | Burden hours included in hours above.
206.55(e)(2) | For lessees transporting production from Indian leases, the lessee must submit a corrected Form MMS-2014 to reflect actual costs, . . | Burden hours included in hours above.
206.110(c)(1) and 206.111(l)(2) | You may use your proposed procedure to calculate a transportation allowance until MMS accepts or rejects your cost allocation. If MMS rejects your cost allocation, you must amend your Form MMS-2014 for the months that you used the rejected method . . | Burden hours included in hours above.
206.114 and 206.115(a) | You or your affiliate must use a separate entry on Form MMS-2014 to notify MMS of an allowance based on transportation costs you or your affiliate incur | Burden hours included in hours above.
206.157(a)(1)(i); 206.157(b)(1) | Arm's-length transportation contracts and non-arm's length or no contract. The lessee must claim a transportation allowance by reporting it as a separate line entry on the Form MMS-2014 | Burden hours included in hours above.
206.157(c)(1)(i) and (c)(2)(i); 206.159(c)(1)(i) and (c)(2)(i) | Arm's-length contracts and non-arm's length or no contract. The lessee must notify MMS of an allowance based on incurred costs by using a separate line entry on the Form MMS-2014 | Burden hours included in hours above.
206.157(e)(2) | For lessees transporting production from onshore Federal leases, the lessee must submit a corrected Form MMS-2014 to reflect actual costs, . . | Burden hours included in hours above.
206.157(e)(3) | For lessees transporting gas production from leases on the OCS, . . . the lessee must submit a corrected Form MMS-2014 to reflect actual costs | Burden hours included in hours above.
206.157(f)(1); 206.178(f)(1) | You must modify the Form MMS-2014 by the amount received or credited for the affected reporting period | Burden hours included in hours above.
206.159(a)(1)(i) and (b)(1) | Arm's-length processing contracts and non-arm's-length or no contract. The lessee must claim a processing allowance by reporting it as a separate line entry on the Form MMS-2014 | Burden hours included in hours above.
206.159(e)(3) | For lessees processing pas production from leases on the OCS, . . . the lessee must submit a corrected Form MMS-2014 to reflect actual costs, . . | Burden hours included in hours above.
206.172(e)(6)(ii) | You must pay and report on Form MMS-2014 additional royalties due . . | Burden hours included in hours above.
206.174(a)(4)(ii) | If the major portion value is higher, you must submit an amended Form MMS-2014 to MMS . . | Burden hours included in hours above.
206.178(d)(2) | You must report transportation allowances as a separate line item on Form MMS-2014 | Burden hours included in hours above.
206.180(c)(2) | You must report gas processing allowances as a separate line item on Form MMS-2014 | Burden hours included in hours above.
206.353(d)(2); 206.354(d)(2) | Lessees must submit corrected Forms MMS-2014 to reflect adjustments to royalty payments . . | Burden hours included in hours above.
Total |  |  | 2,484,000 | 125,856

Estimated Annual Reporting and Recordkeeping “Non-hour Cost”: We have identified no “non-hour” cost burdens.

Comments: The PRA (44 U.S.C. 3501, et seq.) provides an agency may not conduct or sponsor, and a person is not required to respond to, a collection of information unless it displays a currently valid OMB control number. Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request and the ICR will also be posted on our Web site at http://www.mrm.mms.gov/Laws_R_D/FRNotices/FRInfColl.htm.

Public Comment Policy: We will post all comments in response to this notice on our Web site at http://www.mrm.mms.gov/Laws_R_D/FRNotices/FRInfColl.htm. We will also make copies of the comments available for public review, including names and addresses of respondents, during regular business hours at our offices in Lakewood, Colorado. Individual respondents may request we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: May 6, 2003.
Lucy Querques Denett,
Associate Director for Minerals Revenue Management.

[FR Doc. 03-11815 Filed 5-12-03; 8:45 am]

BILLING CODE 4310-MR-U